ENVIRONMENTAL PROTECTION AGENCY

[EPA-HQ-OAR-2015-0341; FRL-9947-17-OAR]

Notice of Availability of the Environmental Protection Agency's Two Updated Chapters in the EPA Air Pollution Control Cost Manual

AGENCY: Environmental Protection Agency (EPA).

ACTION: Notice of availability (NOA).

SUMMARY: The Environmental Protection Agency (EPA) is providing notice that two chapters of the EPA Air Pollution Control Cost Manual (Control Cost Manual) have been finalized and are available to the public. These chapters, titled “Chapter 1—Selective Non-Catalytic Reduction” and “Chapter 2—Selective Catalytic Reduction” are components of “Section 4—Nitrogen Oxide Controls” and incorporate comments received on draft versions made available in a Notice of Data Availability (NODA) published on June 12, 2015. A response to comment (RTC) document summarizing comments and agency responses is available for each chapter. In addition, cost calculation information is provided electronically for each chapter enabling estimation of costs for installing and operating NOx control measures. The final chapters, RTC and cost calculation documents are available at https://www3.epa.gov/ttn/ecas/cost_manual.html. In addition, all public comments received by the agency are available in the docket for this Notice of Availability (EPA-HQ-OAR-2015-0341).

Docket: All documents in the docket are listed in the www.regulations.gov index. Although listed in the index, some information is not publicly available, e.g., Confidential Business Information or other information whose disclosure is restricted by statute. Certain other material, such as copyrighted material, will be publicly available only in hard copy. Publicly available docket materials are available either electronically in www.regulations.gov or in hard copy at the Air and Radiation Docket and Information Center, EPA/DC, WJC West Building, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For questions on the EPA Air Pollution Control Cost Manual update, contact Larry Sorrels, Health and Environmental Impacts Division, Office of Air Quality Planning and Standards, U.S. Environmental Protection Agency, C439-02, 109 T.W. Alexander Drive, Research Triangle Park, NC 27709; telephone number: (919) 541-5041; fax number: (919) 541-0839; email address: sorrels.larry@epa.gov.

Information Available From This Notice

The EPA Air Pollution Control Cost Manual provides guidance for the development of accurate and consistent costs for air pollution control devices. The Control Cost Manual focuses on point source and stationary area source air pollution controls for volatile organic compounds, particulate matter, oxides of nitrogen (NOX), and certain acid gases (primarily sulfur dioxide and hydrochloric acid). The EPA is currently updating the Control Cost Manual. This update will be the Seventh Edition and is required under the authority of the 2014 Consolidated Appropriations Act.

The Control Cost Manual contains individual chapters on control measures, including data and equations to aid users in estimating capital costs for installation and annual costs for operation and maintenance of these measures. The Control Cost Manual is used by the EPA for estimating the impacts of rulemakings, and serves as a basis for sources to estimate costs of controls that are Best Available Control Technology under the New Source Review Permitting Program and Best Available Retrofit Technology under the Regional Haze Program and for other programs.

The two Control Cost Manual chapters that have been revised include “Chapter 1—Selective Non-Catalytic Reduction” and “Chapter 2—Selective Catalytic Reduction.” These two chapters are the first two chapters to be released for the Seventh Edition of the Control Cost Manual and replace the Selective Non-Catalytic Reduction and Selective Catalytic Reduction chapters in the current Control Cost Manual Sixth Edition. A response to comment (RTC) document summarizing comments and agency responses is available for each chapter. In addition, cost calculation information is provided electronically for each chapter enabling estimation of costs for installing and operating NOx control measures. The final chapters, RTC and cost calculation documents are available at https://www3.epa.gov/ttn/ecas/cost_manual.html. In addition, all public comments received by the agency are available in the docket for this Notice of Availability (EPA-HQ-OAR-2015-0341).

The Control Cost Manual was last updated in 2003. The development of the Control Cost Manual Seventh Edition is in response to the Consolidated Appropriations Act of 2014, which requested that the EPA begin development of a seventh edition of the Control Cost Manual.

Dated: June 8, 2016.
Stephen Page,
Director, Office of Air Quality Planning and Standards.

[FR Doc. 2016-14042 Filed 6-13-16; 8:45 am]

BILLING CODE 6560-50-P